DEPARTMENT OF ENERGY

Federal Energy Regulatory Commission

[Project No. 1858-021]

Beaver City Corp; Notice of Intent To File License Application, Filing of Pre-Application Document, and Approving Use of the Traditional Licensing Process

a. Type of Filing: Notice of Intent to File License Application and Request to Use the Traditional Licensing Process.

b. Project No.: 1858-021.

c. Dated Filed: July 31, 2018.

d. Submitted By: Beaver City Corp.

e. Name of Project: Beaver City Canyon Plant No. 2 Hydroelectric Project.

f. Location: On the Beaver River, in Beaver County, Utah, about 5 miles east of the city of Beaver. The project occupies 10.18 acres of United States lands administered by the Fishlake National Forest, and 1.87 acres of lands managed by the U.S. Bureau of Land Management.

g. Filed Pursuant to: 18 CFR 5.3 of the Commission's regulations.

h. Applicant Contact: Jason Brown, Beaver City Manager, 30 West 300 North, Beaver, UT 84713; (435) 438-2451.

i. FERC Contact: Evan Williams at (202) 502-8462 or evan.williams@ferc.gov.

j. Beaver City Corp (BCC) filed its request to use the Traditional Licensing Process on July 31, 2018. BCC provided public notice of its request on July 31, 2018. In a letter dated September 27, 2018, the Director of the Division of Hydropower Licensing approved BCC's request to use the Traditional Licensing Process.

k. With this notice, we are initiating informal consultation with: (a) The U.S. Fish and Wildlife Service and/or NOAA Fisheries under section 7 of the Endangered Species Act and the joint agency regulations thereunder at 50 CFR, part 402, (b) NOAA Fisheries under section 305(b) of the Magnuson-Stevens Fishery Conservation and Management Act and implementing regulations at 50 CFR 600.920; and (c) the Utah State Historic Preservation Officer, as required by section 106, National Historic Preservation Act, and the implementing regulations of the Advisory Council on Historic Preservation at 36 CFR 800.2.

l. BCC filed a Pre-Application Document (PAD; including a proposed process plan and schedule) with the Commission, pursuant to 18 CFR 5.6 of the Commission's regulations.

m. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. The licensee states its unequivocal intent to submit an application for a new license for Project No.1858-021. Pursuant to 18 CFR 16.8, 16.9, and 16.10 each application for a new license and any competing license applications must be filed with the Commission at least 24 months prior to the expiration of the existing license. All applications for license for this project must be filed by July 31, 2021.

o. Register online at http://www.ferc.gov/docs-filing/esubscription.asp to be notified via email of new filing and issuances related to this or other pending projects. For assistance, contact FERC Online Support.

Dated: September 27, 2018.
Nathaniel J. Davis, Sr.,
Deputy Secretary.

[FR Doc. 2018-21493 Filed 10-2-18; 8:45 am]

BILLING CODE 6717-01-P